DEPARTMENT OF COMMERCE

National Oceanic and Atmospheric Administration

50 CFR Part 697

[Docket No. 150401332-7999-01]

RIN 0648-BF01

Atlantic Coastal Fisheries Cooperative Management Act Provisions; American Lobster Fishery; Consideration of Expanded Harvester and Biological Sampling Requirements for American Lobster

AGENCY: National Marine Fisheries Service (NMFS), National Oceanic and Atmospheric Administration (NOAA), Commerce.

ACTION: Advance notice of proposed rulemaking (ANPR); request for comments.

SUMMARY: This notice announces that NMFS intends to consider expanded harvester reporting requirements for the American lobster fishery as recommended by the Atlantic States Marine Fisheries Commission and is soliciting comments. The expanded requirements would be intended to improve the data available to enhance lobster stock assessments, evaluate the co-occurrence of fixed-gear fisheries with large whales, and estimate the economic impacts of offshore energy projects and other marine activities on the fishing industry. We may combine this action with an ongoing rulemaking that considers trap caps and ownership limits for the lobster fishery. The intent is to address the harvester reporting as soon as practicable, as recommended by the Atlantic States Marine Fisheries Commission.

DATES: We must receive written comments on or before July 16, 2018.

ADDRESSES: You may submit comments on this document, identified by NOAA-NMFS-2013-0169 by any of the following methods:

Electronic Submission: Submit all electronic public comments via the Federal e-Rulemaking Portal. Go to www.regulations.gov/#!docketDetail;D=NOAA-NMFS-2013-0169, click the “Comment Now!” icon, complete the required fields, and enter or attach your comments.

Mail: Submit written comments to Michael Pentony, Regional Administrator, National Marine Fisheries Service, 55 Great Republic Drive, Gloucester, MA 01930. Mark the outside of the envelope, “Comments on Lobster Harvester Reporting.”

Instructions: Comments must be submitted by one of the above methods to ensure that the comments are received, documented, and considered by NMFS. We may not consider comments sent by any other method, to any other address or individual, or received after the end of the comment period. All comments received are a part of the public record and will generally be posted for public viewing on www.regulations.gov without change. All personal identifying information (e.g., name, address, etc.) submitted voluntarily by the sender will be publicly accessible. Do not submit confidential business information, or otherwise sensitive or protected information. NMFS will accept anonymous comments (enter “N/A” in the required fields if you wish to remain anonymous). We accept attachments to electronic comments only in Microsoft Word or Excel, WordPerfect, or Adobe PDF file formats.

FOR FURTHER INFORMATION CONTACT: Peter Burns, Fishery Policy Analyst, 978-281-9144.

SUPPLEMENTARY INFORMATION:

Background

NMFS works cooperatively with the states to conserve the American lobster resource within the framework of the Atlantic States Marine Fisheries Commission's Interstate Fishery Management Plan for American Lobster (ISFMP). Through the ISFMP, the Commission adopts fishery conservation and management strategies for the lobster resource and coordinates the efforts of the states and NMFS to implement these strategies.

In February 2018, the Commission approved Addendum XXVI. The intent of Addendum XXVI is to expand lobster harvester reporting requirements, enhance the spatial and effort data collections, and improve the amount and type of biological data collected in the offshore trap fishery. Given the offshore expansion of lobster trap effort in recent years, the Commission developed this addendum to address data gaps due to inconsistent reporting and data collection requirements across state agencies and imposed in Federal waters by NMFS.

The addendum also serves to complement the Commission's Jonah crab management program as Addendum III to the Jonah Crab ISFMP. NMFS is currently in rulemaking to consider adopting management measures for the Jonah crab fishery, which could include the harvester reporting and other data collection elements of the addendum.

Addendum XXVI recommends that we require all Federal lobster permit holders to submit trip-level catch reports. Approximately 60 percent of all Federal lobster permit holders are currently required to submit a trip-level catch report. Federal reporting requirements are limited to those Federal lobster permit holders who also hold another Federal fishery permit with a reporting requirement. The new addendum also extends the 100-percent reporting requirement to the State of Maine, which currently requires about 10 percent of state lobster licensees to report their catch. All other lobster-producing states require all of their harvesters to report their catch. The Commission requested that we implement the mandatory trip-level harvester reporting requirement as soon as practicable. Consequently, we propose to combine the harvester reporting action with the ongoing actions for Addenda XXI and XXII and consolidate them into a single rulemaking action. Focused primarily on lobster conservation management areas (LCMAs) 2 and 3, these two addenda recommended modifications to the trap transfer program and trap caps in these LCMAs.

Addendum XXVI also recommends that we develop a fixed-gear catch report with expanded data elements, including a requirement for fishermen to report their fishing locations down to the 10-minute square to provide more accurate data on where the fishery is taking place. The expanded data elements also include reporting the number of vertical lines deployed and number of traps per trawl to help get a better sense of fishing effort and to assist in evaluating the interactions between the fixed-gear fisheries and large whales. Further, the addendum recommends that we expand our offshore biological sampling program to help characterize the commercial catch and understand the biological characteristics of the stock. We will consider the expanded data elements and fixed-gear catch report, as well as the expanded offshore sampling recommendations, in a separate future action. We are requesting comments from the public on this approach.

Authority: 16 U.S.C. 1801 et seq.; 16 U.S.C. 5101 et seq.

Dated: June 11, 2018.
Donna S. Wieting,
Acting Deputy Assistant Administrator for Regulatory Programs, National Marine Fisheries Service.

[FR Doc. 2018-12777 Filed 6-13-18; 8:45 am]

BILLING CODE 3510-22-P